ENVIRONMENTAL PROTECTION AGENCY

40 CFR Part 300

[FRL-7033-2]

National Oil and Hazardous Substances Pollution Contingency Plan; National Priorities List

AGENCY: Environmental Protection Agency.

ACTION: Direct final notice of deletion of the Tronic Plating Co., Inc. Superfund Site from the National Priorities List.

SUMMARY: The Environmental Protection Agency (EPA) Region II announces the direct final notice of deletion of the Tronic Plating Co., Inc. Superfund Site (Site) from the National Priorities List (NPL).

The NPL, promulgated pursuant to Section 105 of the Comprehensive Environmental Response, Compensation, and Liability Act (CERCLA) of 1980, as amended, is Appendix B of 40 CFR Part 300, which is the National Oil and Hazardous Substances Pollution Contingency Plan (NCP). This direct final deletion is being published by EPA with the concurrence of the State of New York through the New York State Department of Environmental Conservation (NYSDEC) because EPA has determined that all appropriate response actions under CERCLA have been completed, and therefore, further remedial action pursuant to CERCLA is not appropriate.

DATES: This direct final deletion will be effective October 15, 2001 unless EPA receives adverse comments by September 13, 2001. If adverse comments are received, EPA will publish a timely withdrawal of the direct final deletion in the Federal Register informing the public that the deletion will not take effect.

ADDRESSES: Comments may be mailed to: Gloria M. Sosa, Remedial Project Manager, Emergency and Remedial Response Division, U.S. Environmental Protection Agency, Region II 290 Broadway, 20th Floor, New York, New York 10007-1866.

Information Repositories: Comprehensive information on this Site is available for viewing and copying at the Site information repository located at: U.S. Environmental Protection Agency, Region II, Superfund Records Center 290 Broadway, Room 1828, New York, New York 10007-1866, (212) 637-4308, Hours: 9 am to 5 pm, Monday through Friday.

Information on the Site is also available for viewing at the following information repository: Farmingdale Public Library 274 Main Street, Farmingdale, New York 11735, (516) 249-9090, Hours: 9 am-9 pm, Friday and Saturday, 9 am-5 pm.

FOR FURTHER INFORMATION CONTACT: Gloria M. Sosa, Remedial Project Manager, U.S. Environmental Protection Agency, Region II, 290 Broadway, 20th Floor, New York, New York 10007-1866; by phone at, (212) 637-4283, by fax at (212) 637-4284.

SUPPLEMENTARY INFORMATION:

Table of Contents

I. Introduction

II. National Priorities List Deletion Criteria

III. Deletion Procedures

IV. Basis for Site Deletion

V. Deletion Action

I. Introduction

EPA Region II announces the deletion of the Tronic Plating Co., Inc. Superfund Site (Site), located in Farmingdale, Suffolk County, New York, from the NPL and requests public comment on this action.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective October 15, 2001 unless EPA receives adverse comments by September 13, 2001 on this document. If adverse comments are received within the 30-day public comment period of this document, EPA will publish a timely withdrawal of this direct final deletion before the effective date of the deletion and the deletion will not take effect. EPA will, if appropriate, prepare a response to comments and continue with the deletion process on the basis of the notice of intent to delete and the comments already received. There will be no additional opportunity to comment.

Section II of this document explains the criteria for deleting sites from the NPL. Section III discusses procedures that EPA is using for this action. Section IV discusses the Tronic Plating Co., Inc. Superfund Site and demonstrates how it meets the deletion criteria. Section V discusses EPA's action to delete the Site from the NPL unless adverse comments are received during the public comment period.

II. NPL Deletion Criteria

Section 300.425 (e)(1)(i)-(iii) of the NCP provides that sites may be deleted from the NPL where no further response is appropriate. In making this determination, EPA, in consultation with the NYSDEC, will consider whether any of the following criteria has been met:

i. Responsible or other parties have implemented all appropriate response actions required; or

ii. All appropriate Fund-financed response under CERCLA has been implemented, and no further response action by responsible parties is appropriate; or

iii. The remedial investigation has shown that the release poses no significant threat to public health or to the environment and, therefore, taking remedial measures is not appropriate.

Deletion of a site from the NPL does not preclude eligibility for subsequent Fund-financed actions if future conditions warrant such actions. Section 300.425 (e)(3) of the NCP states: “All releases deleted from the NPL are eligible for further Fund-financed remedial actions should future conditions warrant such action. Whenever there is a significant release from a site deleted from the NPL, the site shall be restored to the NPL without application of the H[azard] R[anking] S[ystem].”

III. Deletion Procedures

The following procedure apply to the deletion of the Site.

(1) EPA Region II issued a Record of Decision on September 27, 1993 describing the selected remedy for the Site, which was a no-further-action remedy;

(2) NYSDEC has concurred with the deletion in a letter dated June 14, 2001;

(3) Concurrently with the publication of this direct final notice of deletion, a notice is being published in a major local newspaper of general circulation at or near the Site and is being distributed to appropriate federal, state, and local government officials and other interested parties; the newspaper notice announces the 30-day public comment period concerning the notice of intent to delete the Site from the NPL;

(4) The Region has made all relevant documents available in the Regional Office and the local site information repositories listed previously;

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter or revoke any person's rights or obligations. The NPL is designed primarily for informational purposes and to assist Agency management.

IV. Basis for Intended Site Deletion

The following information provides EPA's rationale for deleting the Site from the NPL:

A. Site Location

The Tronic Plating Co., Inc. Superfund Site is located at 168 Central Avenue, Farmingdale, Suffolk County, New York, in an industrial/commercial area. The Site was used in electroplating and metal anodizing from 1968 to 1984. The building that housed the Tronic Plating Co., Inc. is owned by Commerce Holding Company, Inc., which currently leases the building to several light-industrial manufacturers.

B. Site History

The Tronic Plating Co., Inc. operated at the Central Avenue facility from 1968 until 1984. Administrative Orders were issued to the Tronic Plating Co., Inc. by both the Suffolk County Department of Health Services (SCDHS) and the NYSDEC regarding unpermitted releases of industrial waste. In 1984, NYSDEC conducted an inspection of the Tronic Plating Co., Inc. facility. The Site was placed on the NPL for Superfund cleanup on June 10, 1986.

C. Remedial Investigation/Feasibility Study

A Remedial Investigation/Feasibility Study (RI/FS) was performed by Commerce Holding Company, Inc. in two phases between 1987 and 1992. The results of the RI indicated that ground water, soils and storm-drain sediments were contaminated with varying levels of volatile organic compounds and metals. However, a risk assessment performed by EPA in 1992 demonstrated that the risks associated with the Site were within EPA's acceptable risk range. Nevertheless, EPA identified several areas (three on-site storm drains, a sanitary leaching pool and a drywell) that were potential sources for metal contamination in the ground water. Commerce Holding Co. agreed to remove the contaminated sediments in the several identified areas.

D. Removal Action

On May 7, 1993, Commerce Holding Company, Inc. entered into an Administrative Order on Consent (AOC) with EPA to remove contaminated sediment and soil from each of the three on-site storm drains and the three adjoining overflow drains, the sanitary leaching pool and the drywell. Soil samples were collected from the bottom of the excavations and analyzed to determine the levels of cadmium, lead and chromium present. The AOC specified the following cleanup goals developed by EPA and NYSDEC: Cadmium—10 parts per million (ppm); lead—200 ppm; and, chromium—98 ppm.

Pursuant to the AOC, Commerce Holding Company, Inc. began the removal work on July 22, 1993 and satisfactorily completed it on August 13, 1993. Storm water was removed from the on-site storm drains and sanitary leaching pool. A vacuum truck was used to remove contaminated sediments and soils from the storm drains, sanitary leaching pool and drywell. An X-ray fluorescence (XRF) field-screening device was employed to determine the depth of the excavation. The XRF results indicated that these cleanup goals had been met. Confirmatory soil samples were taken at the bottom of each excavation and sent for laboratory analysis to ensure that the cleanup goals developed by EPA and NYSDEC were met. Results from the analysis of these confirmatory samples agree with the field-screening results. All procedures and protocols for sampling and testing were done using EPA analytical methods and a Contract Laboratory. EPA and NYSDEC believe that analytical results are accurate to the degree necessary to ensure cleanup goals were met.

E. Record of Decision Findings

A Record of Decision signed on September 27, 1993 selected “No Further Action” as a remedy for the Site. Based upon a review of all the available data, including the findings of the RI and the risk assessment, and the analytical results of confirmatory samples taken after the removal of contaminated sediments and soils, EPA determined that a no-further-action remedy was protective of human health and the environment. In addition, NYSDEC continued to monitor the site to verify the effectiveness of the remedy until 1997 when the site was delisted from the New York State Registry of Inactive Hazardous Waste Disposal Sites.

F. Future Activity

The Site has been utilized throughout the remedial process. Several light industries occupy the property. The metal contamination in the drywells has been removed. There is no need for institutional controls at this Site. The ground water does not exceed MCLs. Therefore, no well restrictions are necessary. EPA will not conduct Five-Year Reviews at this Site.

V. Deletion Action

The EPA, with concurrence of the State of New York, has determined that all appropriate responses under CERCLA have been completed, and that no further response actions are necessary. Therefore, EPA is deleting the Site from the NPL.

Because EPA considers this action to be noncontroversial and routine, EPA is taking it without prior publication. This action will be effective October 15, 2001 unless EPA receives adverse comments by September 13, 2001. If adverse comments are received within the 30-day public comment period on the proposal, EPA will publish a timely withdrawal of this direct final notice of deletion before the effective date of the deletion and it will not take effect. If appropriate, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 13, 2001.
Kathleen C. Callahan,
Acting Regional Administrator, Region II.

For the reasons set out in this document, 40 CFR Part 300 is amended as follows:

PART 300—[AMENDED]

1. The authority citation for Part 300 continues to read as follows:

Authority: 33 U.S.C. 1321(c)(2); 42 U.S.C. 9601-9657; E.O. 12777, 56 FR 54757, 3 CFR. 1991 Comp., p. 351; E.O. 12580, 52 FR 2923, 3 CFR, 1987 Comp., p. 193.

Appendix B—[Amended]

2. Table 1 of Appendix B to Part 300 is amended under (“NY”) by removing the site Tronic Plating Co., Inc. Farmingdale.

[FR Doc. 01-20255 Filed 8-13-01; 8:45 am]

BILLING CODE 6560-50-P